DEPARTMENT OF THE INTERIOR

U.S. Geological Survey

National Geospatial Advisory Committee; Meeting

AGENCY: U.S. Geological Survey, Interior.

ACTION: Notice of meeting.

SUMMARY: The National Geospatial Advisory Committee (NGAC) will meet on May 12-13, 2009 at the George Washington University Cafritz Conference Center, 800 21st Street, NW., Washington, DC 20052. The meeting will be held in room 405.

The NGAC, which is composed of representatives from governmental, private sector, non-profit, and academic organizations, was established to advise the Chair of the Federal Geographic Data Committee on management of Federal geospatial programs, the development of the National Spatial Data Infrastructure, and the implementation of Office of Management and Budget (OMB) Circular A-16. Topics to be addressed at the meeting include:

—Current FGDC Activities.

—National Geospatial Policy and Strategy.

—NGAC Subcommittee Activities, including The National Map, Partnerships, Parcel Data, Communications, Economic Recovery, and Governance.

—NGAC Action Plan.

The meeting will include an opportunity for public comment during the morning of May 13. Comments may also be submitted to the NGAC in writing.

Members of the public who wish to attend the meeting must register in advance. Please register by contacting Arista Maher at the U.S. Geological Survey (703-648-6283, amaher@usgs.gov). Registrations are due by May 8, 2009. While the meeting will be open to the public, seating may be limited due to room capacity.

DATES: The meeting will be held from 8:30 a.m. to 5 p.m. on May 12 and from 8 a.m. to 4:30 p.m. on May 13.

FOR FURTHER INFORMATION CONTACT: John Mahoney, U.S. Geological Survey (206-220-4621).

SUPPLEMENTARY INFORMATION: Meetings of the National Geospatial Advisory Committee are open to the public. Additional information about the NGAC and the meeting is available at http://www.fgdc.gov/ngac.

Dated: April 1, 2009.
Ken Shaffer,
Deputy Staff Director, Federal Geographic Data Committee.

[FR Doc. E9-7927 Filed 4-7-09; 8:45 am]

BILLING CODE 4311-AM-P